DEPARTMENT OF TRANSPORTATION

Federal Aviation Administration

14 CFR Parts 1, 91, 97, 121, 125, 129, and 135

[Docket No. FAA-2002-14002; Notice No. 02-20]

RIN 2120-AH77

Area Navigation (RNAV) and Miscellaneous Amendments; Aviation Rulemaking Committee Meeting

AGENCY: Federal Aviation Administration, DOT.

ACTION: Proposed rulemaking; notice of public meeting.

SUMMARY: This document announces a public meeting of the Terminal Area Operations Aviation Rulemaking Committee (TAOARC) to discuss its recommended dispositions to public comments received in response to the proposed rule “Area Navigation (RNAV) and Miscellaneous Amendments.”

DATES: The public meeting will be held on December 9, 2003, at 9 a.m. Registration will begin at 8:30 a.m.

ADDRESSES: The public meeting will be held at the Hyatt Regency Crystal City at Washington National Hotel, 2799 Jefferson Davis Highway, Arlington, Virginia 22202; telephone (703) 418-1234, facsimile (703) 418-1289.

An electronic copy of the proposed dispositions to the comments may be found at the FAA's web page at http://www.faa.gov/avr/arm/taoarc_index.cfm beginning November 24, 2003. You can also get a copy by calling the Federal Aviation Administration, Office of Rulemaking, at (202) 267-9680.

If you are unable to attend the meeting and wish to submit written comments, you may send your comments to Dr. Kathy Abbott at kathy.abbott@faa.gov by December 5, 2003.

FOR FURTHER INFORMATION CONTACT: For information on meeting administration matters, contact Heather McLaughlin at (202) 385-4590.

For technical or agenda item questions, contact Dr. Kathy Abbott, Regulation and Certification, Federal Aviation Administration, 800 Independence Avenue, SW., Washington, DC 20591; telephone (202) 267-7192, facsimile (503) 213-6495.

SUPPLEMENTARY INFORMATION: On December 17, 2002, the FAA published a Notice of Proposed Rulemaking (NPRM) concerning “Area Navigation (RNAV) and Miscellaneous Amendments” (67 FR 77326). The comment period closed on July 7, 2003. Some commenters requested that the FAA work with the Terminal Area Operations Aviation Rulemaking Committee (TAOARC) to respond to the questions and comments to the NPRM raised by industry. This committee was established under 49 U.S.C. 106(p)(5) to provide a forum for the FAA, other government entities, and affected members of the aviation community to discuss issues and to develop resolutions and processes to facilitate the evolution of safe and efficient terminal area operations. The FAA agreed with the commenters that it would be helpful to seek the advice of TAOARC and asked TAOARC to review the public comments on the RNAV NPRM and prepare a recommendation on how the FAA should address them. TAOARC's involvement was limited to reviewing the issues raised by the commenters and not to raise new issues.

The purpose of this meeting is to share TAOARC's draft disposition of comments with the general public and to solicit public comment on the draft disposition before it is presented to the FAA as a formal recommendation.

The agenda for the meeting includes:

• Review of the RNAV NPRM history.

• Review the comments received on the NPRM and the proposed dispositions to those comments.

• Respond to questions and conduct open discussion of identified issues.

Attendance is open to the interested public but may be limited to space available. To make arrangements to present oral statements at the meeting, contact Dr. Kathy Abbott (see FOR FURTHER INFORMATION CONTACT) by December 5, 2003.

Sign or oral interpretation or an assistive listening device will be available at the meeting if requested 10 calendar days before the meeting. If you need to make arrangements for these services, contact Heather McLaughlin (see FOR FURTHER INFORMATION CONTACT).

Issued in Washington, DC, on November 18, 2003.
Ida Klepper,
Acting Director, Office of Rulemaking.

[FR Doc. 03-29149 Filed 11-21-03; 8:45 am]

BILLING CODE 4910-13-P